DEPARTMENT OF HEALTH AND HUMAN SERVICES

National Institutes of Health

Center for Scientific Review; Amended Notice of Meeting

Notice is hereby given of a change in the meeting of the Virology—A Study Section, October 03, 2013, 08:30 a.m. to October 04, 2013, 05:30 p.m., Embassy Suites Baltimore—Downtown, 222 St. Paul Place, Baltimore, MD which was published in the Federal Register on September 17, 2013, 78 FR 180 Pgs. 57169-57170.

The meeting will start on December 16, 2013 at 9:00 a.m. and end December 17, 2013 at 5:00 p.m. The meeting location remains the same. The meeting is closed to the public.

Dated: November 5, 2013.
Michelle Trout,
Program Analyst, Office of Federal Advisory Committee Policy.

[FR Doc. 2013-26894 Filed 11-8-13; 8:45 am]

BILLING CODE 4140-01-P